OFFICE OF THE UNITED STATES TRADE REPRESENTATIVE

Notice of Effective Date of Modifications to the Harmonized Tariff Schedule of the United States Concerning the United States-Colombia Trade Promotion Agreement

AGENCY: Office of the United States Trade Representative.

ACTION: Notice.

SUMMARY: The Office of United States Trade Representative is announcing the effective date of modifications to the Harmonized Tariff Schedule of the United States (HTSUS) concerning the United States-Colombia Trade Promotion Agreement (USCTPA).

DATES: This notice is applicable on January 1, 2021.

FOR FURTHER INFORMATION CONTACT: Assistant General Counsel Erin Rogers (202) 395-9126 or Erin_F_Rogers@ustr.eop.gov.

SUPPLEMENTARY INFORMATION:

A. Background

Section 1206(a) of the Omnibus Trade and Competitiveness Act of 1988 (1988 Act) (19 U.S.C. 3006(a)) authorizes the President to proclaim modifications to the HTSUS based on the recommendations of the U.S. International Trade Commission (ITC) under section 1205 of the 1988 Act (19 U.S.C. 3005) if the President determines that the modifications conform to U.S. obligations under the International Convention on the Harmonized Commodity Description and Coding System (Convention) and do not run counter to the national economic interest of the United States. The ITC has recommended modifications to the HTSUS pursuant to section 1205 of the 1988 Act to conform the HTSUS to amendments made to the Convention.

Proclamation 8818 of May 14, 2012, implemented the USCTPA with respect to the United States and, pursuant to section 201 of the USCTPA Implementation Act (19 U.S.C. 3805 note), the staged reductions in duty that the President determined to be necessary or appropriate to carry out or apply articles 2.3, 2.5, 2.6, and 3.1.13, and Annex 2.3 (including the schedule of United States duty reductions with respect to originating goods) of the USCTPA.

The United States and Colombia are parties to the Convention. Because changes to the Convention are reflected in slight differences of form between the national tariff schedules of the United States and Colombia, Annexes 3 and 4.1 of the USCTPA must be changed to ensure that the tariff and certain other treatment accorded under the USCTPA to originating goods will continue to be provided under the tariff categories that were proclaimed in Proclamation 8818. The United States and Colombia have agreed to make these changes.

Section 201 of the USCTPA Implementation Act authorizes the President to proclaim such modifications or continuation of any duty, such continuation of duty-free or excise treatment, or such additional duties, as the President determines to be necessary or appropriate to carry out or apply articles 2.3, 2.5, 2.6, and 3.1.13, and Annex 2.3 (including the schedule of United States duty reductions with respect to originating goods) of the USCTPA.

In Proclamation 10053 of June 29, 2020, pursuant to section 201 of the USCTPA Implementation Act and section 1206(a) of the 1988 Act (19 U.S.C. 3006(a)), the President proclaimed certain modifications to the HTSUS (see Proclamation 10053, clause (17)), and further proclaimed that the modifications would become effective on the date announced by the U.S. Trade Representative in the Federal Register, after the applicable conditions set forth in the USCTPA have been fulfilled. The modifications are effective with respect to goods entered for consumption, or withdrawn from warehouse for consumption, on or after that date. See Proclamation 10053, clause (18). The modifications are set out in Annex V of the ITC's Publication 5060, incorporated by reference in Proclamation 10053.

B. Announcement of the Effective Date of Modifications to the HTSUS Pursuant to Proclamation 10053

The U.S. Trade Representative is announcing that the conditions referenced in clause (18) of Proclamation 10053 have been fulfilled and that the modifications set out in Annex V of Publication 5060 will take effect on January 1, 2021, with respect to goods entered for consumption, or withdrawn from warehouse for consumption, on or after that date.

Joseph Barloon,
General Counsel, Office of the United States Trade Representative.

[FR Doc. 2020-23983 Filed 10-28-20; 8:45 am]

BILLING CODE 3290-F1-P